NATIONAL SCIENCE FOUNDATION

Notice of Permit Applications Received Under the Antarctic Conservation Act of 1978 (Pub. L. 95-541)

AGENCY: National Science Foundation.

ACTION: Notice of Permit Applications Received under the Antarctic Conservation Act of 1978. Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by March 2, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Joyce Jatko at the above address or (703) 292-8032.

SUPPLEMENTARY INFORMATION: The National Science Foundation, under the authority of the Antarctic Conservation Act of 1978, as amended, issued regulations providing for the conservation of Antarctic animals and plants. The regulations provide for a permit system for various activities in Antarctica otherwise prohibited, including entry into Antarctic Specially Protected Areas, taking of native mammals, birds, or plants, exporting or importing any native mammal, bird or plant, or introducing into Antarctica any non-native species.

The applications received are as follows:

1. Applicant—Permit Application No. 20001-025: Daniel P. Costa, Department of Biology, University of California, Santa Cruz, CA 95064.

Activity for Which Permit is Requested: Take and Import into the U.S. The applicant proposes to capture up to 25 Crabeater seals (Lobodon carcinophagus), and up to 10 each of Leopard (Thydrurga leoptony), Weddell (Leptonyshotes weddellii) and Ross seals (Ommatophoca rossii) per season over the next 3 years for the purpose of collecting blood, tissue and stomach samples, take measurements and attach satellite relay data loggers (SRDL) and VHF radio tags. The purpose for these activities is to determine and better understand the foraging strategies utilized by marine predators in the face of meso- and fine-scale ecological variability. The collected samples will be imported into the U.S. for further analysis.

Location: Within the seasonal pack ice in Marguerite Bay, West Antarctic Peninsula.

Dates: April 1, 2001 to August 31, 2003.

2. Applicant—Permit Application No. 2001-026: Bruce D. Sidell, School of Marine Sciences, University of Maine, Orono, ME 04469-5471.

Activity for Which Permit is Requested: Introduce into Antarctica. The applicant proposes to use a mixture of species of frozen fish tissues from species native to Patagonian Chile, specifically Macruronis magellanicus and Dissostichus eleganoides, as bait in experimental fishing of fish traps/pots in the Antarctic peninsula area. The bait will be used to attempt to capture Antarctic fishes, in particular Channichthyid icefishes, for ongoing studies of the physiology and biochemistry of Antarctic icefishes. In all previous research seasons to date, capture of fish specimens has been carried out exclusively by benthic trawling. If use of the fish traps proves to be successful, this method could reduce the necessity and frequency for use of movable bottom gear and resultant disruption to benthic communities and could yield a much more diverse sample of fish species for research work.

Location: Antarctic peninsula area in the vicinities of Low, Brabant, Anvers, Livingston Islands and Deallmann Bay.

Dates: June 1, 2001 to July 31, 2001.

Joyce A. Jatko,
Acting Permit Officer, Office of Polar Programs.

[FR Doc. 01-2612 Filed 1-30-01; 8:45 am]

BILLING CODE 7555-01-M